DEPARTMENT OF THE TREASURY

Community Development Financial Institutions Fund

Notice of Information Collection and Request for Public Comment

ACTION: Notice and request for public comment.

SUMMARY: The Department of the Treasury, as part of its continuing effort to reduce paperwork and respondent burden, invites the general public and other Federal agencies to take this opportunity to comment on proposed and/or continuing information collections, as required by the Paperwork Reduction Act of 1995. Currently, the Community Development Financial Institutions Fund (CDFI Fund), U.S. Department of the Treasury, is soliciting comments concerning the Community Development Financial Institution CDFI Program (CDFI Program) and Native American CDFI Assistance Program (NACA Program) Annual Compliance Reports. These include the Performance Progress Report, Financial Statement Audit Report (if applicable), and A-133 Audit Report (if applicable), which will be submitted through the Awards Management Information System (AMIS).

DATES: Written comments must be received on or before July 2, 2018 to be assured of consideration.

ADDRESSES: Submit your comments via email to Tanya McInnis, Acting Program Manager for the Office of Certification, Compliance Monitoring and Evaluation, CDFI Fund, at ccme@cdfi.treas.gov.

FOR FURTHER INFORMATION CONTACT: Tanya McInnis, Acting Program Manager for the Office of Certification, Compliance Monitoring and Evaluation, Community Development Financial Institutions Fund, U.S. Department of the Treasury, 1500 Pennsylvania Ave. NW, Washington DC 20220 or by phone at (202) 653-0300. Other information regarding the CDFI Fund and its programs may be obtained through the CDFI Fund's website at http://www.cdfifund.gov.

SUPPLEMENTARY INFORMATION:

Title: CDFI Program Annual Compliance Reports.

OMB Number: 1559-NEW.

Type of Review: Regular Review.

Abstract: This collection captures quantitative information from CDFI Program and NACA Program recipients. This information is used to assess: (1) The recipient's activities as detailed in its application materials; (2) the recipient's approved use of the assistance; (3) the recipient's financial condition; and (4) overall compliance with the terms and conditions of the assistance agreement entered into by the CDFI Fund and the recipient.

A CDFI Program or NACA Program recipient must submit Annual Compliance Reports. The specific components that comprise a recipient's Annual Compliance Reports are set forth in the assistance agreement that the recipient enters into with the CDFI Fund in order to receive a CDFI Program or a NACA Program award. The three reports being published for public comment are the: (i) Performance Progress Report (PPR); (ii) Financial Statement Audit Report (if applicable); and (iii) A-133 Audit Report (if applicable). These reporting requirements can be found in the assistance agreement templates located on the CDFI Fund website at www.cdfifund.gov. The CDFI Fund seeks to consolidate data reporting and anticipates that the burden estimates will decrease with the build out of AMIS.

Affected Public: Businesses or other for-profit institutions, non-profit entities, and State, local and Tribal entities participating in CDFI Fund programs.

Estimated Number of Respondents:

CDFI Annual PPR: 855.

CDFI Annual Financial Statement Audit Report (if applicable): 428.

CDFI Annual A-133 Audit Report (if applicable): 428.

Estimated Annual Time Per Respondent:

CDFI Annual PPR: 30.

CDFI Annual Financial Statement Audit Report (if applicable): 30.

CDFI Annual A-133 Audit Report (if applicable): 30.

Estimated Total Annual Burden Hours: 51,330.

CDFI Annual PPR: 25,650.

CDFI Annual Financial Statement Audit Report: 12,840.

CDFI Annual A-133 Audit Report: 12,840.

Request for Comments: Comments submitted in response to this notice will be summarized and/or included in the request for OMB approval. All comments will become a matter of public record. Comments are invited on all aspects of the information collections, but commentators may wish to focus particular attention on: (a) The cost for CDFIs to operate and maintain the services/systems required to provide the required information; (b) ways to enhance the quality, utility, and clarity of the information to be collected; (c) whether the collection of information is necessary for the proper evaluation of the effectiveness and impact of the CDFI Fund's programs, including whether the information has practical utility; (d) the accuracy of the CDFI Fund's estimate of the burden of the collection of information, and; (e) ways to minimize the burden of the collection of information including through the use of technology.

Authority: 12 U.S.C. 4707 et seq.; 26 U.S.C. 45D; 12 CFR part 1805.

Mary Ann Donovan,
Director, Community Development Financial Institutions Fund.

[FR Doc. 2018-09273 Filed 5-1-18; 8:45 am]

BILLING CODE 4810-70-P